STATE JUSTICE INSTITUTE

SJI Board of Directors Meeting

AGENCY: State Justice Institute.

ACTION: Notice of meeting.

SUMMARY: The SJI Board of Directors will be meeting on Monday, April 18, 2016 at 1:00 p.m. The meeting will be held at the Supreme Court of Kentucky in Frankfort, Kentucky. The purpose of this meeting is to consider grant applications for the 2nd quarter of FY 2016, and other business. All portions of this meeting are open to the public.

ADDRESSES: Supreme Court of Kentucky, State Capitol, Room 235, Frankfort, KY 40601.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2016-08468 Filed 4-12-16; 8:45 am]

BILLING CODE P